DEPARTMENT OF THE INTERIOR

National Park Service

[NPS-AKRO-ANIA-CAKR-DENA-GAAR-KOVA-LACL-WRST-20043: PPAKAKROR4] [PPMPRLE1Y.LS0000]

Notice of Open Public Meetings and Teleconferences for the National Park Service Alaska Region Subsistence Resource Commission Program

AGENCY: National Park Service, Interior.

ACTION: Meeting notices.

SUMMARY: As required by the Federal Advisory Committee Act (16 U.S.C. Appendix 1-16), the National Park Service (NPS) is hereby giving notice that the Aniakchak National Monument Subsistence Resource Commission (SRC), the Cape Krusenstern National Monument SRC, the Denali National Park SRC, the Gates of the Arctic National Park SRC, the Kobuk Valley National Park SRC, the Lake Clark National Park SRC, and the Wrangell-St. Elias National Park SRC will hold public meetings to develop and continue work on NPS subsistence program recommendations, and other related regulatory proposals and resource management issues. The NPS SRC program is authorized under section 808 of the Alaska National Interest Lands Conservation Act, (16 U.S.C. 3118), title VIII.

Aniakchak National Monument SRC Meeting/Teleconference Date and Location: The Aniakchak National Monument SRC will meet from 2:00 p.m. to 7:30 p.m. or until business is completed on Wednesday, February 10, 2016, at Ray's Place in Port Heiden, AK. Should this meeting be postponed due to inclement weather, or lack of a quorum, the alternate meeting date is Thursday, February 11, 2016, from 2:00 p.m. to 7:30 p.m. or until business is completed. Teleconference participants must call the National Park Service office in King Salmon, AK at (907) 246-2154 or (907) 246-3305, by Thursday, February 4, 2016, prior to the meeting to receive teleconference passcode information. For more detailed information regarding this meeting or if you are interested in applying for SRC membership contact, Designated Federal Official Diane Chung, Superintendent, at (907) 442-2120 or via email at diane_chung@nps.gov, or Linda Chisholm, Subsistence Coordinator, at (907) 246-2154 or via email at linda_chisholm@nps.gov or Clarence Summers, Subsistence Manager, at (907) 644-3603 or via email at clarence_summers@nps.gov.

Cape Krusenstern National Monument SRC Meeting/Teleconfference Dates and Locations: The Cape Krusenstern National Monument SRC will meet from 1:00 p.m. to 5:00 p.m. or until business is completed on Tuesday, February 9, 2016, and from 9:00 a.m. to 12:00 p.m. or until business is completed on Wednesday, February 10, 2016, at the Northwest Arctic Heritage Center in Kotzebue, AK. Teleconference participants must contact Hannah Atkinson, Cultural Resource Specialist at the Cape Krusenstern National Monument office at (907) 442-4342 or via email at hannah_atkinson@nps.gov by Monday, February 8, 2016, prior to the meeting to receive teleconference passcode information. For more detailed information regarding this meeting or if you are interested in applying for SRC membership contact Ken Adkisson, Subsistence Manager, at (907) 443-6104 or via email at ken_adkisson@nps.gov or Clarence Summers, Subsistence Manager, at (907) 644-3603 or via email at clarence_summers@nps.gov.

Wrangell-St. Elias National Park SRC Meeting/Teleconference Dates and Locations: The Wrangell-St. Elias National Park SRC will meet from 10:00 a.m. to 12:00 p.m. on Wednesday, February 10, 2016, by teleconference and in person at the Wrangell-St. Elias National Park and Preserve headquarters building in Copper Center Visitor Center (Mile 106.8 Richardson Highway). For teleconference information and/or to provide written comments, contact Barbara Cellarius, Subsistence Coordinator, at (907) 822-7236 or via email at barbara_cellarius@nps.gov by 4:00 p.m. on Friday, February 5, 2016.

The Wrangell-St. Elias National Park SRC will meet on Wednesday, February 24, 2016, and Thursday, February 25, 2016, from 9:00 a.m. to 5:00 p.m. or until business is completed at the Gulkana Village Hall in Gulkana Community Hall in Gulkana, AK. For teleconference information and/or to provide written comments, contact Barbara Cellarius, Subsistence Coordinator, at (907) 822-7236 or via email at barbara_cellarius@nps.gov by 4:00 p.m. on Friday, February 5, 2016.

For more detailed information regarding these meetings, or if you are interested in applying for SRC membership, contact Designated Federal Official Eric Veach, Acting Superintendent, at (907) 822-5234 or via email at eric_veach@nps.gov, or Barbara Cellarius, Subsistence Coordinator, at (907) 822-7236 or via email at barbara_cellarius@nps.gov or Clarence Summers, Subsistence Manager, at (907) 644-3603 or via email at clarence_summers@nps.gov.

Lake Clark National Park SRC Meeting/Teleconfernce Date and Location: The Lake Clark National Park SRC will meet from 11:00 a.m. to 2:30 p.m. or until business is completed on Wednesday, February 10, 2016, at the Community Hall in Iliamna, AK. Teleconference participants must call the National Park Service office at (907) 644-3648, by Monday, February 8, 2016, prior to the meeting to receive teleconference passcode information. For more detailed information regarding this meeting, or if you are interested in applying for SRC membership, contact Designated Federal Official Margaret L. Goodro, Superintendent, at (907) 644-3627 or via email at margaret_goodro@nps.gov, or Liza Rupp, Subsistence Manager, at (907) 644-3648 or via email at liza_rupp@nps.gov or Clarence Summers, Subsistence Manager, at (907) 644-3603 or via email at clarence_summers@nps.gov.

Kobuk Valley National Park SRC Meeting/Teleconfernce Dates and Location: The Kobuk Valley National Park SRC will meet from 1:00 p.m. to 5:00 p.m. or until business is completed on Thursday, February 11, 2016, and from 9:00 a.m. to 12:00 p.m. or until business is completed on Friday, February 12, 2016, at the Northwest Arctic Heritage Center in Kotzebue, AK. Teleconference participants must contact Hannah Atkinson, Cultural Resource Specialist at the National Park Service office at (907) 442-4342 or via email at hannah_atkinson by Monday, February 8, 2016, prior to the meeting to receive teleconference passcode information. For more detailed information regarding this meeting or if you are interested in applying for SRC membership contact Ken Adkisson, Subsistence Manager, at (907) 443-6104 or via email at ken_adkisson@nps.gov or Clarence Summers, Subsistence Manager, at (907) 644-3603 or via email at clarence_summers@nps.gov.

Gates of the Arctic National Park SRC Meeting/Teleconference Dates and Locations: The Gates of the Arctic National Park SRC will meet from 1:30 p.m. to 2:30 p.m. on Wednesday, February 17, 2016, by teleconference. Teleconference participants must contact Marcy Okada, Subsistence Coordinator, at (907) 455-0639 or via email at marcy_okada@nps.gov by Monday, February 8, 2016, prior to the meeting to receive teleconference passcode information.

The Gates of the Arctic National Park SRC will meet from 9:00 a.m. to 5:00 p.m. or until business is completed on Tuesday, April 26, 2016, and Wednesday, April 27, 2016, at the Anaktuvuk Pass Community Center in Anaktuvuk Pass, AK. For more detailed information regarding the Gates of the Arctic National Park SRC meetings, or if you are interested in applying for SRC membership, contact Designated Federal Official Greg Dudgeon, Superintendent, at (907) 457-5752 or via email at greg_dudgeon@nps.gov, or Marcy Okada, Subsistence Coordinator, at (907) 455-0639 or via email at marcy_okada@nps.gov or Clarence Summers, Subsistence Manager, at (907) 644-3603, or via email at clarence_summers@nps.gov.

Denali National Park SRC Meeting Date and Location: The Denali National Park SRC will meet from 10:00 a.m. to 5:00 p.m. or until business is completed on Tuesday, February 23, 2016, at the Murie Science and Learning Center, Denali National Park, AK. For more detailed information regarding this meeting, or if you are interested in applying for SRC membership, contact Amy Craver, Subsistence Manager, at (907) 683-9544 or via email at amy_craver@nps.gov or Clarence Summers, Subsistence Manager, at (907) 644-3603 or via email at clarence_summers@nps.gov.

Proposed Meeting Agenda: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Reports

a. Ranger Update

b. Resource Manager's Report

c. Subsistence Manager's Report

14. Public and Other Agency Comments

15. Work Session

16. Set Tentative Date and Location for Next SRC Meeting

17. Adjourn Meeting

SRC meeting locations and dates may change based on inclement weather or exceptional circumstances. If the meeting date and location are changed, the Superintendent will issue a press release and use local newspapers and radio stations to announce the rescheduled meeting.

SUPPLEMENTARY INFORMATION: SRC meetings are open to the public and will have time allocated for public testimony. The public is welcome to present written or oral comments to the SRC. SRC meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Dated: January 19, 2016.
Alma Ripps
Chief, Office of Policy.

[FR Doc. 2016-01386 Filed 1-22-16; 8:45 am]

BILLING CODE 4310-EE-P